DEPARTMENT OF STATE

[Public Notice 3818]

30-Day Notice of Proposed Information Collection: Evaluation of DOS-Sponsored Educational and Cultural Exchange Programs (Formerly USIA-Sponsored Educational and Cultural Exchange Activities; USIA Participant Survey Questionnaire #3116-0199) OMB Control #1405-0118

ACTION: Notice.

SUMMARY: The Department of State has submitted the following information collection request to the Office of Management and Budget (OMB) for approval in accordance with the Paperwork Reduction Act of 1995. Comments should be submitted to OMB within 30 days of the publication of this notice.

The following summarizes the information collection proposal submitted to OMB:

Type of Request: Extension of a currently approved collection, OMB Control #1405-0118.

Originating Office: Bureau of Educational and Cultural Affairs, Office of Policy and Evaluation (ECA/P).

Title of Information Collection: Evaluation of DOS-sponsored Educational and Cultural Exchange Programs.

Frequency: Information is collected on a per evaluation project basis.

Form Number: N/A [Multiple survey questionnaires may be used for evaluation projects, on a one-time, per-project basis.]

Respondents: U.S. and foreign applicants, current grantee exchange visitor participants (J-1 visa) and alumni of the Bureau of Educational and Cultural Affairs' exchange programs, program administrators, domestic and foreign partner organizations, domestic and foreign hosts of exchange visitor participants, and other similar types of respondents associated with the Bureau's exchange programs.

Estimated Number of Respondents: 1,938.

Average Hours Per Response: 30 minutes.

Total Estimated Burden: 1,938 (3,877 total annual responses × 30 minutes).

Public comments are being solicited to permit the agency to:

• Evaluate whether the proposed collection of information is necessary for the proper performance of the functions of the agency, including whether the information will have practical utility.

• Evaluate the accuracy of the agency's estimate of the burden of the collection, including the validity of the methodology and assumptions used.

• Enhance the quality, utility, and clarity of the information to be collected.

• Minimize the reporting burden on those who are to respond, including through the use of automated collection techniques or other forms of technology.

FOR FURTHER ADDITIONAL INFORMATION: Copies of the proposed information collection and supporting documents may be obtained from the U.S. Department of State, Bureau of Educational and Cultural Affairs, Office of Policy and Evaluation, 301 4th Street, SW (SA-44), Room 357, Washington, DC 20547, or by telephone at (202) 619-5307. Public comments and questions should be directed to the State Department Desk Officer, Office of Information and Regulatory Affairs, Office of Management and Budget (OMB), Washington, DC 20530, who may be reached on 202-395-3897.

Dated: August 15, 2001.
David Whitten,
Executive Director, Bureau of Educational and Cultural Affairs, Department of State.

[FR Doc. 01-26311 Filed 10-17-01; 8:45 am]

BILLING CODE 4710-05-P